DEPARTMENT OF THE INTERIOR

Geological Survey

[Docket No. USGS-2025-0010; OMB Control Number 1028-0059; GX25LR000F60100]

Agency Information Collection Activities; Submission to the Office of Management and Budget (OMB) for Review and Approval; Comprehensive Test Ban Treaty

AGENCY: U.S. Geological Survey, Interior.

ACTION: Notice of information collection; request for comment.

SUMMARY: In accordance with the Paperwork Reduction Act (PRA) of 1995 and its implementing regulations, the U.S. Geological Survey (USGS) proposes to renew an information collection.

DATES: Interested persons are invited to submit comments. To be considered, we must receive your comments on or before September 15, 2025.

ADDRESSES: You may submit comments by one of the following methods:

Internet: https://www.regulations.gov. Search for and submit comments on Docket No. USGS-2025-0010.

U.S. Mail: USGS, Information Collections Clearance Officer, 12201 Sunrise Valley Drive, MS 159, Reston, VA 20192.

FOR FURTHER INFORMATION CONTACT: E. Lee Bray by email at lbray@usgs.gov, or by telephone at 703-648-4979. Individuals in the United States who are deaf, deafblind, hard of hearing, or have a speech disability may dial 711 (TTY, TDD, or TeleBraille) to access telecommunications relay services. Individuals outside the United States should use the relay services offered within their country to make international calls to the point-of-contact in the United States. You may also view the Information Collection Request (ICR) at http://www.reginfo.gov/public/do/PRAMain.

SUPPLEMENTARY INFORMATION: In accordance with the PRA, as part of our continuing effort to reduce paperwork and respondent burdens, we provide the general public and other Federal agencies with an opportunity to comment on new, proposed, revised, and continuing collections of information. This helps us assess the impact of our information collection requirements and minimize the public's reporting burden. It also helps the public understand our information collection requirements and provides the requested data in the desired format.

A Federal Register notice with a 60-day public comment period on this collection of information was published on May 23, 2025 (90 FR 22109). We did not receive any public comments in response to that notice.We are again soliciting comments on the proposed ICR that is described below. We are especially interested in public comments addressing the following issues:

(1) is the collection necessary to the proper functions of the USGS minerals information mission; (2) will this information be processed and used in a timely manner; (3) is the estimate of burden accurate; (4) how the USGS might enhance the quality, utility, and clarity of the information to be collected; and (5) how the USGS might minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The collection of this information is required by the Comprehensive Test Ban Treaty (CTBT), and will, upon request, provide the CTBT Technical Secretariat with geographic locations of sites where chemical explosions greater than 300 tons TNT-equivalent have occurred. The responsibility to collect and monitor explosives information is delegated to the USGS and is carried out through this information collection.

Title of Collection: Comprehensive Test Ban Treaty.

OMB Control Number: 1028-0059.

Form Number: USGS Form 9-4040-A.

Type of Review: Renewal with extension of a currently approved information collection.

Respondents/Affected Public: Businesses or other for-profit institutions: U.S. nonfuel minerals and exploration operations.

Total Estimated Number of Annual Respondents: 2,500.

Total Estimated Number of Annual Responses: 2,500.

Estimated Completion Time per Response: 15 minutes.

Total Estimated Number of Annual Burden Hours: 625.

Respondent's Obligation: Voluntary.

Frequency of Collection: Annually.

Total Estimated Annual Non-hour Burden Cost: There are no “non-hour cost” burdens associated with this ICR.

An agency may not conduct or sponsor, nor is a person required to respond to, a collection of information unless it displays a currently valid OMB control number.

The authorities for this action are the PRA of 1995, the National Mining and Minerals Policy Act of 1970, the National Materials and Minerals Policy, Research and Development Act of 1980, the CTBT Part III, and the CTBT USGS-Department of Defense Memorandum of Agreement.

Elisa Alonso,
Acting Deputy Director, National Minerals Information Center, U.S. Geological Survey.

[FR Doc. 2025-15552 Filed 8-14-25; 8:45 am]

BILLING CODE 4338-11-P